DEPARTMENT OF ENERGY

Federal Energy Regulatory Commission

Combined Notice of Filings

Take notice that the Commission has received the following Natural Gas Pipeline Rate and Refund Report filings:

Filings Instituting Proceedings

Docket Numbers: RP23-301-000.

Applicants: Alliance Pipeline L.P.

Description: § 4(d) Rate Filing: Negotiated Rates—Various Jan 1 2023 Releases to be effective 1/1/2023.

Filed Date: 12/21/22.

Accession Number: 20221221-5083.

Comment Date: 5 p.m. ET 1/2/23.

Docket Numbers: RP23-302-000.

Applicants: Enable Mississippi River Transmission, LLC.

Description: § 4(d) Rate Filing: Third Party Capacity Updates to be effective 1/21/2023.

Filed Date: 12/21/22.

Accession Number: 20221221-5117.

Comment Date: 5 p.m. ET 1/2/23.

Docket Numbers: RP23-303-000.

Applicants: Rockies Express Pipeline LLC.

Description: § 4(d) Rate Filing: REX 2022-12-21 Negotiated Rate Agreement Amendment to be effective 12/22/2022.

Filed Date: 12/21/22.

Accession Number: 20221221-5197.

Comment Date: 5 p.m. ET 1/2/23.

Docket Numbers: RP23-304-000.

Applicants: Equitrans, L.P.

Description: § 4(d) Rate Filing: Negotiated Rate Agreement—1/1/2023 to be effective 1/1/2023.

Filed Date: 12/22/22.

Accession Number: 20221222-5014.

Comment Date: 5 p.m. ET 1/3/23.

Docket Numbers: RP23-305-000.

Applicants: Great Basin Gas Transmission Company.

Description: Tariff Amendment: Cancel Tariff—Original Version No. 1 to be effective 1/23/2023.

Filed Date: 12/22/22.

Accession Number: 20221222-5064.

Comment Date: 5 p.m. ET 1/3/23.

Docket Numbers: RP23-306-000.

Applicants: Florida Gas Transmission Company, LLC.

Description: § 4(d) Rate Filing: Negotiated Rates Filing—FPL to be effective 12/24/2022.

Filed Date: 12/22/22.

Accession Number: 20221222-5077.

Comment Date: 5 p.m. ET 1/3/23.

Docket Numbers: RP23-307-000.

Applicants: Enable Gas Transmission, LLC.

Description: § 4(d) Rate Filing: NRA Filing to be effective 1/1/2023.

Filed Date: 12/22/22.

Accession Number: 20221222-5110.

Comment Date: 5 p.m. ET 1/3/23.

Docket Numbers: RP23-308-000.

Applicants: Mississippi Hub, LLC.

Description: § 4(d) Rate Filing: Mississippi Hub, LLC Tariff Filing to be effective 1/21/2023.

Filed Date: 12/22/22.

Accession Number: 20221222-5121.

Comment Date: 5 p.m. ET 1/3/23.

Docket Numbers: RP23-309-000.

Applicants: Natural Gas Pipeline Company of America LLC.

Description: § 4(d) Rate Filing: Negotiated Rate Agreement Filing—Golden Pass K150158 to be effective 1/1/2023.

Filed Date: 12/22/22.

Accession Number: 20221222-5131.

Comment Date: 5 p.m. ET 1/3/23.

Docket Numbers: RP23-310-000.

Applicants: Southern Star Central Gas Pipeline, Inc.

Description: § 4(d) Rate Filing: Gas Quality Filing 2022 to be effective 2/1/2023.

Filed Date: 12/22/22.

Accession Number: 20221222-5247.

Comment Date: 5 p.m. ET 1/3/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1033-003.

Applicants: Northern Natural Gas Company.

Description: Compliance filing: 20221222 Interim Rates to be effective 1/1/2023.

Filed Date: 12/22/22.

Accession Number: 20221222-5145.

Comment Date: 5 p.m. ET 1/3/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2022.
Debbie-Anne A. Reese,
Deputy Secretary.

[FR Doc. 2022-28452 Filed 12-29-22; 8:45 am]

BILLING CODE 6717-01-P